DEPARTMENT OF AGRICULTURE

Forest Service

National Urban and Community Forestry Advisory Council

AGENCY: Forest Service, USDA.

ACTION: Notice of meeting.

SUMMARY: The National Urban and Community Forestry Advisory Council will meet in Boston, Massachusetts, October 16-18, 2007. The purpose of the meeting is to discuss emerging issues in urban and community forestry.

DATES: The meeting will be held on October 16-18, 2007.

ADDRESSES: The meeting will be held at the Double Tree Hotel Downtown, 821 Washington Street, Boston, Massachusetts. Written comments concerning this meeting should be addressed to Nancy Stremple, Executive Staff to National Urban and Community Forestry Advisory Council, 201 14th St., SW., Yates Building (1 Central) MS-1151, Washington, DC 20250-1151. Comments may also be sent via e-mail to nstremple@fs.fed.us, or via facsimile to 202-690-5792.

All comments, including names and addresses when provided, are placed in the record and are available for public inspection and copying. The public may inspect comments received at 201 14th St., SW., Yates Building (1 Central) MS-1151, Washington, DC 20250-1151. Visitors are encouraged to call ahead to 202-205-1054 to facilitate entry into the building.

FOR FURTHER INFORMATION CONTACT: Nancy Stremple, Executive Staff or Robert Prather Staff Assistant to National Urban and Community Forestry Advisory Council, 201 14th St., SW., Yates Building (1 Central) MS-1151, Washington, DC 20250-1151, phone 202-205-1054.

Individuals who use telecommunication devices for the deaf (TDD) may call the Federal Information Relay Service (FIRS) at 1-800-877-8339 between 8 a.m. and 8 p.m., Eastern Standard Time, Monday through Friday.

SUPPLEMENTARY INFORMATION: The meeting is open to the public. Council discussion is limited to Forest Service staff and Council members; however, persons who wish to bring urban and community forestry matters to the attention of the Council may file written statements with the Council staff (201 14th St., SW., Yates Building (1 Central) MS-1151, Washington, DC 20250-1151, e-mail nstremple@fs.fed.us) before or after the meeting. Public input sessions will be provided at the meeting.

Dated: August 13, 2007.
Robin L. Thompson,
Associate Deputy Chief, State and Private Forestry.

[FR Doc. E7-16413 Filed 8-20-07; 8:45 am]

BILLING CODE 3410-11-P